DEPARTMENT OF TRANSPORTATION

Federal Highway Administration

23 CFR Part 1

[RIN 2125-AG04]

Diversion of Highway Revenues; Removal of Obsolete Regulation

Correction

In rule document 2022-03173 appearing on pages 8411-8413 in the issue of Tuesday, February 15, 2022, make the following change. On page 8413, in column 1, in lines 15-20, the words of issuance and regulatory instructions should read as follows (which removes 23 § CFR 1.28 instead of 23 CFR part 1):

In consideration of the foregoing, FHWA amends 23 CFR part 1 as follows:

PART 1—GENERAL

1. The authority citation for part 1 continues to read as follows:

Authority: 23 U.S.C. 315, 49 CFR 1.48(b).

§ 1.28 [Removed and Reserved]

2. Section 1.28 is removed and reserved.

[FR Doc. C1-2022-03173 Filed 2-23-22; 8:45 am]

BILLING CODE 0099-10-P